NATIONAL AERONAUTICS AND SPACE ADMINISTRATION

[Notice (17-059)]

Human Exploration and Operations Research Advisory Committee; Meeting

AGENCY: National Aeronautics and Space Administration.

ACTION: Notice of meeting.

SUMMARY: In accordance with the Federal Advisory Committee Act, as amended, the National Aeronautics and Space Administration (NASA) announces a meeting of the Human Exploration and Operations Research Advisory Committee (HEORAC).

DATES: Tuesday, September 19, 2017, 9:00 a.m. to 4:45 p.m., Local Time.

ADDRESSES: NASA Headquarters, Room 1Q39, 300 E Street SW., Washington, DC 20546.

FOR FURTHER INFORMATION CONTACT: Dr. Bradley Carpenter, Human Exploration and Operations Mission Directorate, NASA Headquarters, Washington, DC 20546, (202) 358-0826 or bcarpenter@nasa.gov.

SUPPLEMENTARY INFORMATION: The meeting will be open to the public up to the capacity of the room. This meeting is also available telephonically and by WebEx. Any interested person may dial the USA toll free conference call number 844-467-6272 or toll number 720-259-6462, passcode 535959, followed by the # sign, to participate in this meeting by telephone. The WebEx link is https://nasa.webex.com, the meeting number is 997 096 218, and the password is Exploration@2017. The agenda for the meeting includes the following topics:

• The Role of Research in the Human Exploration and Operations Mission Directorate

• Low Technology Readiness Level Work in Advanced Exploration Systems

• Human Research Program Re-planning

• Future Activity of the Human Exploration and Operations Advisory Committee

Attendees will be requested to sign a register and to comply with NASA security requirements, including the presentation of a valid Government issued picture ID to security before access to NASA Headquarters. Foreign nationals attending this meeting are required to provide a copy of their passport and visa in addition to providing the following information no less than 10 working days prior to the meeting: Full name; gender; date/place of birth; citizenship; visa information (number, type, expiration date); passport information (number, country, expiration date); employer/affiliation information (name of institution, address, country, telephone); title/position of attendee; and home address to Dr. Bradley Carpenter via email at bcarpenter@nasa.gov or by fax at (202) 358-2886. U.S. citizens and Legal Permanent Residents (green card holders) are requested to submit their name and affiliation 3 working days prior to the meeting to Dr. Carpenter. It is imperative that the meeting be held on these dates to accommodate the scheduling priorities of the key participants.

Carol J. Hamilton,
Acting Advisory Committee Management Officer, National Aeronautics and Space Administration.

[FR Doc. 2017-17873 Filed 8-22-17; 8:45 am]

BILLING CODE 7510-13-P